DEPARTMENT OF THE INTERIOR

Office of Surface Mining Reclamation and Enforcement

[S1D1S SS08011000 SX064A000 256S180110; S2D2S SS08011000 SX064A000 25XS501520; OMB Control Number 1029-0098]

Submission to the Office of Management and Budget for Review and Approval; Petition Process for Designation of Federal Lands as Unsuitable for All or Certain Types of Surface Coal Mining Operations and for Termination of Previous Designations

AGENCY: Office of Surface Mining Reclamation and Enforcement, Interior.

ACTION: Notice of information collection; request for comment.

SUMMARY: In accordance with the Paperwork Reduction Act of 1995, we, the Office of Surface Mining Reclamation and Enforcement (OSMRE), are proposing to renew an information collection.

DATES: Interested persons are invited to submit comments on or before July 21, 2025.

ADDRESSES: Send your comments on this information collection request (ICR) by mail to William Frankel, Office of Surface Mining Reclamation and Enforcement, 1849 C Street NW, Room 4547-MIB, Washington, DC 20240, or by email to wfrankel@osmre.gov. Please reference OMB Control Number 1029-0098 in the subject line of your comments.

FOR FURTHER INFORMATION CONTACT: William Frankel by email at wfrankel@osmre.gov, or by telephone at 202-208-0121. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the agency; (2) will this information be processed and used in a timely manner; (3) is the estimate of burden accurate; (4) how might the agency enhance the quality, utility, and clarity of the information to be collected; and (5) how might the agency minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Consistent with section 522 of the Surface Mining Control and Reclamation Act of 1977 (SMCRA), 30 U.S.C. 1272, this part (30 CFR part 769) establishes the minimum procedures and standards for designating Federal lands unsuitable for certain types of surface mining operations and for terminating designations pursuant to a petition. The information requested will aid the regulatory authority in the decision-making process to approve or disapprove a request.

Any person having an interest which is or may be adversely affected has the right to petition the regulatory authority to have an area designated as unsuitable for surface coal mining operations, or to have an existing designation terminated. At a minimum, the regulatory authority requires the following information:

(a) Petitioner's name, address, and telephone number are needed to identify the individual, company, etc., requesting the designation or termination.

(b) Identification of the area is required to determine the location of the area, its size and relationship to the section 522 areas.

(c) Petitioner's interest is needed to determine the status of petitioners for the validity of acceptance of the petition.

(d) Description of how mining of the area has affected, or how mining may affect people or the environment is needed to justify the unsuitability petition.

(e) Allegations of facts and supporting evidence are needed to comply with requirements of section 522(a) and (b).

To terminate designations of lands as unsuitable for surface mining operations, the regulatory authority must be provided with additional information as follows:

(a) Where the unsuitability determination was based on State or local land use plans, fragile or historic lands, loss of land productivity, or lands subject to natural hazards:

1. Discuss the nature or abundance of the protected resource affected.

Discuss the resources or conditions not being affected by mining operations in the surrounding area to ensure adequate protection of resources.

(b) Where the unsuitability petition was based on a finding that reclamation was not technologically or economically feasible, a demonstration that reclamation is now technologically and economically feasible. This is needed to determine the level of resources and the basis for termination of a designation.

The regulatory authority will use this information to identify, locate, compare and contrast the area, resources and conditions for the purpose of complying with section 522.

Title of Collection: 30 CFR part 769—Petition process for designation of Federal lands as unsuitable for all or certain types of surface coal mining operations and for termination of previous designations.

OMB Control Number: 1029-0098.

Form Number: None.

Type of Review: Extension of a currently approved collection.

Respondents/Affected Public: Individuals.

Total Estimated Number of Annual Respondents: 1.

Total Estimated Number of Annual Responses: 1.

Estimated Completion Time per Response: 1,000 hours.

Total Estimated Number of Annual Burden Hours: 1,000.

Respondent's Obligation: Required to obtain or retain a benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq.).

William L Frankel,
Information Collection Clearance Officer, Office of Surface Mining Reclamation and Enforcement.

[FR Doc. 2025-09128 Filed 5-20-25; 8:45 am]

BILLING CODE 4310-05-P